DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 1, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Fast Track Generic Clearance for Qualitative Feedback on Customer Satisfaction Surveys.

OMB Control Number: 0535-0261.

Summary of Collection: Executive Order 12862 directs Federal agencies to provide service to the public that matches or exceeds the best service available in the private sector. In order to ensure that our programs are effective and meet our users' needs, the National Agricultural Statistics Service (NASS) seeks to obtain OMB approval for the renewal of this generic clearance to collect qualitative feedback on our products and services. The qualitative information to be collected is intended to provide useful insights on user perceptions and opinions. It is not intended to yield quantitative results that are statistically generalizable to any larger populations.

Annual requests from the Illinois Department of Agriculture (IDOA) to establish numerical measurements of the general level of satisfaction felt by IDOA's customers and clients will be included in this generic information collection request when funded by the IDOA. The results are used by some Bureaus in the IDOA as part of a Public Accountability Report that is submitted to the Illinois Comptroller. In addition, the Bureaus are using the results to help guide their operational management decisions, in particular for training staff.

Need and Use of the Information: This collection of information is necessary to enable NASS to obtain feedback in an efficient, timely manner, in accordance with our commitment to improving the quality, usability, and ease of accessing our surveys and public information. This feedback will provide insights into user perceptions, experiences, expectations, and provide an early warning of issues with service; and focus attention on areas where communication, training, or changes in operations might improve delivery of products and services. These collections will allow for ongoing, collaborative, and actionable communications between NASS and its customers and stakeholders. The feedback will also contribute directly to the improvement of program management.

Description of Respondents: Farmers, ranchers, agri-businesses and data users.

Number of Respondents: 120,000.

Frequency of Responses: Reporting: Annually.

Total Burden Hours: 8,375.

Levi S. Harrell,
Departmental Information Collection Clearance Officer.

[FR Doc. 2024-04286 Filed 2-29-24; 8:45 am]

BILLING CODE 3410-20-P